DEPARTMENT OF DEFENSE

Office of the Secretary

[Transmittal Nos. 09-03, 09-37, 09-39, 09-57, 09-75 and 10-07]

36(b)(1) Arms Sales Notification

AGENCY: Defense Security Cooperation Agency, DoD.

ACTION: Notice.

SUMMARY: The Department of Defense is publishing the unclassified text of six section 36(b)(1) arms sales notifications to fulfill the requirements of section 155 of Public Law 104-164 dated 21 July 1996.

FOR FURTHER INFORMATION CONTACT: Ms. B. English, DSCA/DBO/CFM, (703) 601-3740.

SUPPLEMENTARY INFORMATION: The following are copies of letters to the Speaker of the House of Representatives, Transmittals 09-03, 09-37, 09-39, 09-57, 09-75 and 10-07 with associated attachments.

Dated: February 1, 2010.
Mitchell S. Bryman,
Alternate OSD Federal Register Liaison Officer, Department of Defense.

Transmittal No. 09-03

The following is a copy of a letter to the Speaker of the House of Representatives, Transmittals 09-03 with attached transmittal, policy justification, and Sensitivity of Technology.

BILLING CODE 5001-06-P

Transmittal No. 09-37

The following is a copy of a letter to the Speaker of the House of Representatives, Transmittals 09-37 with attached transmittal, policy justification, and Sensitivity of Technology.

Transmittal No. 09-39

The following is a copy of a letter to the Speaker of the House of Representatives, Transmittals 09-39 with attached transmittal, and policy justification.

Transmittal No. 09-57

The following is a copy of a letter to the Speaker of the House of Representatives, Transmittals 09-57 with attached transmittal, policy justification, and Sensitivity of Technology.

Transmittal No. 09-75

The following is a copy of a letter to the Speaker of the House of Representatives, Transmittals 09-75 with attached transmittal, policy justification, and Sensitivity of Technology.

Transmittal No. 10-07

The following is a copy of a letter to the Speaker of the House of Representatives, Transmittals 10-07 with attached transmittal, and policy justification.

[FR Doc. 2010-2443 Filed 2-4-10; 8:45 AM]

BILLING CODE 5001-06-C